NUCLEAR REGULATORY COMMISSION

[Docket No. 50-609; NRC-2013-0235]

Northwest Medical Isotopes, LLC; Medical Radioisotope Production Facility

AGENCY: Nuclear Regulatory Commission.

ACTION: Construction permit and record of decision; issuance.

SUMMARY: The U.S. Nuclear Regulatory Commission (NRC or the Commission) is providing notice of the issuance of Construction Permit No. CPMIF-002 to Northwest Medical Isotopes, LLC (NWMI) and record of decision (ROD).

DATES: The construction permit was issued, and is immediately effective, May 9, 2018.

ADDRESSES: Please refer to Docket ID NRC-2013-0235 when contacting the NRC about the availability of information regarding this document. You may obtain publicly-available information related to this document using any of the following methods:

• Federal Rulemaking Website: Go to http://www.regulations.gov and search for Docket ID NRC-2013-0235. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209 or 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Michael Balazik, Office of Nuclear Reactor Regulation, U.S. Nuclear Regulatory Commission, Washington, DC 20555-0001; telephone: 301-415-2856; email: Michael.Balazik@nrc.gov.

SUPPLEMENTARY INFORMATION:

I. Introduction

Under section 2.106 of title 10 of the Code of Federal Regulations (10 CFR), the NRC is providing notice of the issuance of Construction Permit No. CPMIF-002 to NWMI and the issuance of the ROD under 10 CFR 51.102(c). The construction permit, which is immediately effective, authorizes NWMI to construct a 10 CFR part 50 production facility designed for the production of medical radioisotopes in Columbia, Missouri, as described in NWMI's application for a construction permit and in evidence received at the mandatory hearing held by the Commission. With respect to the application for the construction permit filed by NWMI, the NRC finds that the applicable standards and requirements of the Atomic Energy Act of 1954, as amended, and the Commission's regulations have been met. The NRC finds that any required notifications to other agencies or bodies have been duly made and that, among other things, there is reasonable assurance that the activities authorized by the permit will be conducted in compliance with the rules and regulations of the Commission, that safety questions will be satisfactorily resolved by the completion of construction, and that, taking into consideration siting criteria, the proposed facility can be constructed and operated at the proposed location without undue risk to the public health and safety, subject to the conditions listed in the construction permit. Furthermore, the NRC finds that the licensee is technically and financially qualified to engage in the activities authorized, and that issuance of the license will not be inimical to the common defense and security or to the health and safety of the public. Finally, the NRC finds that the findings required by subpart A of 10 CFR part 51 have been made.

II. Further Information

The NRC prepared a safety evaluation report and a final environmental impact statement that document the information reviewed and the NRC's conclusions. The Commission also issued its Memorandum and Order (CLI-18-06), documenting its final decision on the mandatory hearing held on January 23, 2018, which serves as the ROD in this proceeding. The Commission's final decision authorized the issuance of the construction permit for the NWMI medical radioisotope production facility, contingent upon the inclusion of a revised safety permit condition. The NRC also prepared a document summarizing the ROD to accompany its action on the construction permit application that incorporates by reference materials contained in the final environmental impact statement. In accordance with 10 CFR 2.390 of the NRC's “Agency Rules of Practice and Procedure,” details with respect to this action, including the safety evaluation report, final environmental impact statement, summary ROD, and accompanying documentation included in the construction permit package, as well as the Commission's hearing decision and ROD, are available online in the ADAMS Public Documents collection at http://www.nrc.gov/reading-rm/adams.html. From this site, persons can access the NRC's ADAMS, which provides text and image files of NRC's public documents. In addition, prior to its publication as a NUREG document, the NRC staff will update the safety evaluation report to reflect the revised permit condition.

III. Availability of Documents

The documents identified in the following table are available to interested persons through one or more of the following methods, as indicated.

Document | ADAMS Accession No.
Construction Permit No. CPMIF-002 | ML18037A308
Commission's Memorandum and Order (CLI-18-06) on the Mandatory Hearing (ROD) | ML18123A374
Summary of the Record of Decision | ML18053A074
Safety Evaluation Report Related to the Northwest Medical Isotopes, LLC Construction Permit Application for a Production Facility | ML18016A021
NUREG-2209, “Environmental Impact Statement for the Construction Permit for the Northwest Medical Isotopes Radioisotope Production Facility: Final Report” | ML17130A862
NWMI Construction Permit Application | ML15210A182 ML17257A019

Dated at Rockville, Maryland, this 9th day of May 2018.
For the Nuclear Regulatory Commission.
Anita L. Lund,
Director, Division of Licensing Projects, Office of Nuclear Reactor Regulation.

[FR Doc. 2018-10273 Filed 5-14-18; 8:45 am]

BILLING CODE 7590-01-P